DEPARTMENT OF AGRICULTURE

Office of the Secretary

Proposed Uniform Guidelines for Conducting Farm Service Agency County Committee Elections

AGENCY: Department of Agriculture.

ACTION: Notice with request for comments: reopening and extension of comment period.

SUMMARY: The Farm Service Agency (FSA) is reopening and extending the comment period for the notice with request for comments, Proposed Uniform Guidelines for Conducting Farm Service Agency County Committee Elections. The original comment period for the proposed rule closed on September 16, 2004 and FSA is reopening and extending it until October 16, 2004. The Agency will also consider any comments received from September 16, 2004 to the date of this notice. This action responds to requests from the public to provide more time to comment on the proposed guidelines.

DATES: Comments must be submitted by October 16, 2004 to be assured consideration. Comments received after that date will be considered to the extent practical.

ADDRESSES: The Agency invites interested persons to submit comments on this notice. Comments may be submitted by any of the following methods:

• E-Mail: Send comments to: countyelectionguidelines@usda.gov

• Mail: Send comments to: County Committee Election Reform Comments, Department of Agriculture, Room 3092-S, Mail Stop 0539, 1400 Independence Ave., SW., Washington, DC 20250-0539.

• Hand Delivery or Courier: Deliver comments to the above address.

All comments, including names and addresses, provided by respondents become a matter of public record. Comments may be inspected in the office of the Deputy Administrator for Field Operations, FSA, at the above address. Make inspection arrangements by calling (202) 720-7890.

SUPPLEMENTARY INFORMATION: On August 17, 2004, FSA published a notice with request for comments, Proposed Uniform Guidelines for Conducting Farm Service Agency County Committee Elections, in the Federal Register (69 FR 51052). The notice requested comments on the proposed guidelines to ensure that the County Committee election process is fair and transparent and that producers are fairly represented on FSA County Committees. The uniform guidelines make public the principles and procedures under which FSA will conduct such elections, thus contributing to the transparency and accountability of the process. FSA will be required to follow such guidelines in conducting County Committee elections, and FSA regulations and directives on conducting such elections must conform to these guidelines.

The Agency believes that the request for additional time to comment on the proposed guidelines is reasonable. As a result of the reopening and extension, the comment period for the proposed rule will close on October 16, 2004.

Signed in Washington, DC, September 16, 2004.
James R. Little,
Administrator, Farm Service Agency.

[FR Doc. 04-21292 Filed 9-21-04; 8:45 am]

BILLING CODE 3410-05-P